DEPARTMENT OF COMMERCE

National Oceanic and Atmospheric Administration

[I.D. 060804C]

Pacific Fishery Management Council; Public Meetings

AGENCY: National Marine Fisheries Service (NMFS), National Oceanic and Atmospheric Administration (NOAA), Commerce.

ACTION: Notice of public meeting.

SUMMARY: The Council's Groundfish Management Team (GMT) will hold a working meeting to develop the draft environmental impact statement for harvest specifications and management measures for 2005-06 West Coast groundfish fisheries. This meeting is open to the public.

DATES: The GMT working meeting will convene on Monday, June 28, 2004 at 1 p.m. and may go into the evening until business for the day is completed. The GMT meeting will reconvene from 8:30 a.m. to 5 p.m. Tuesday, June 28 through Thursday, July 1 until business for the day is completed.

ADDRESSES: The GMT working meeting will be held at the Pacific Fishery Management Council office, West Conference Room, 7700 NE. Ambassador Place, Suite 200, Portland, OR 97220; telephone: 503-820-2280.

FOR FURTHER INFORMATION CONTACT: Mr. John DeVore, Pacific Fishery Management Council Staff Officer for Groundfish; 503-820-2280.

SUPPLEMENTARY INFORMATION: The primary purpose of the GMT working meeting is to develop the draft environmental impact statement for harvest specifications and management measures for 2005-2006 West Coast groundfish fisheries and address other assignments relating to groundfish management.

Although non-emergency issues not contained in this agenda may come before the GMT for discussion, those issues may not be the subject of formal GMT action during this meeting. GMT action will be restricted to those issues specifically listed in this notice and any issues arising after publication of this notice requiring emergency action under Section 305(c) of the Magnuson-Stevens Fishery Conservation and Management Act, provided the public has been notified of the GMT's intent to take final action to address the emergency.

Special Accommodations

The meeting is physically accessible to people with disabilities. Requests for sign language interpretation or other auxiliary aids should be directed to Ms. Carolyn Porter at 503-820-2280 at least 5 days prior to the meeting date.

Dated: June 8, 2004.
Alan D. Risenhoover,
Acting Director, Office of Sustainable Fisheries, National Marine Fisheries Service.

[FR Doc. E4-1342 Filed 6-14-04; 8:45 am]

BILLING CODE 3510-22-S